DEPARTMENT OF JUSTICE

Notice of Lodging Proposed Consent Decree

In accordance with Departmental Policy, 28 CFR 50.7, notice is hereby given that a proposed modified Consent Decree in United States v. Holly Ridge Associates, L.L.C., No. 7:01-CV-36-BO(3) was lodged with the United States District Court for the Eastern District of North Carolina on August 11, 2004.

This proposed modified Consent Decree concerns a complaint filed by the United States against Defendants Holly Ridge Associates, L.L.C. and John A. Elmore, pursuant to section 301(a) of the Clean Water Act, 33 U.S.C. 1311(a), to obtain injunctive relief from and impose civil penalties against the Defendants for violating the Clean Water Act by discharging pollutants without a permit into waters of the United States. The proposed modified Consent Decree resolves these allegations by requiring the Defendants to restore the impacted areas and perform mitigation and to pay a civil penalty. The Consent Decree also provides for the Defendants to perform a supplemental environmental project.

The Department of Justice will accept written comments relating to this proposed modified Consent Decree for thirty (30) days from the date of publication of this Notice. Please address comments to Martin F. McDermott, United States Dep't of Justice, Environment & Natural Resources Division, Environmental Defense Section, P.O. Box 23986, Washington, DC 20226-3986 and refer to United States v. Holly Ridge Associates, L.L.C., DJ #90-5-1-1-16618.

The proposed modified Consent Decree may be examined at the Clerk's Office, United States District Court for the Eastern District of North Carolina, 310 New Bern Ave., Raleigh, North Carolina 27601. In addition, the proposed Consent Decree may be viewed at http://www.usdoj.gov/enrd/open.html.

Stephen Samuels,
Assistant Chief, Environmental Defense Section, Environment & Natural Resources Division.

[FR Doc. 04-19484 Filed 8-24-04; 8:45 am]

BILLING CODE 4410-15-M